DEPARTMENT OF ENERGY

Federal Energy Regulatory Commission

Combined Notice of Filings #1

January 5, 2011.

Take notice that the Commission received the following electric rate filings:

Docket Numbers: ER99-4124-028.

Applicants: Arizona Public Service Company.

Description: Notice of Non-material Change in Status of Arizona Public Service Company.

Filed Date: 01/05/2011.

Accession Number: 20110105-5047.

Comment Date: 5 p.m. Eastern Time on Wednesday, January 26, 2011.

Docket Numbers: ER07-553-001.

Applicants: Emera Energy Services Subsidiary No. 1 LLC.

Description: Tariff Numbering Sheet for Emera Energy Services Subsidiary No. 1, LLC, Inc, FERC Electric Tariff, Original Volume No. 1, inception to date.

Filed Date: 01/04/2011.

Accession Number: 20090110-1420.

Comment Date: 5 p.m. Eastern Time on Tuesday, January 25, 2011.

Docket Numbers: ER10-2578-002.

Applicants: Fox Energy Company, LLC.

Description: Fox Energy Company, LLC submits tariff filing per 35: Compliance Fox Energy Company to be effective 9/10/2010.

Filed Date: 01/04/2011.

Accession Number: 20110104-5084.

Comment Date: 5 p.m. Eastern Time on Tuesday, January 25, 2011.

Docket Numbers: ER10-2665-002.

Applicants: UNS Electric, Inc.

Description: UNS Electric, Inc. submits tariff filing per 35.17(a): Request for Withdrawal of OATT Filing in Docket No. ER10-2665-002 to be effective N/A.

Filed Date: 01/04/2011.

Accession Number: 20110104-5031.

Comment Date: 5 p.m. Eastern Time on Tuesday, January 25, 2011.

Docket Numbers: ER11-2048-001.

Applicants: New York Independent System Operator, Inc.

Description: New York Independent System Operator, Inc. submits tariff filing per: Supplemental Filing to Correct Image Rendering Issue to be effective 4/1/2011.

Filed Date: 01/04/2011.

Accession Number: 20110104-5087.

Comment Date: 5 p.m. Eastern Time on Tuesday, January 25, 2011.

Docket Numbers: ER11-2332-001.

Applicants: UBS AG.

Description: UBS AG submits tariff filing per 35: Supplement to Request for Category 1 Status to be effective 12/10/2010.

Filed Date: 01/04/2011.

Accession Number: 20110104-5101.

Comment Date: 5 p.m. Eastern Time on Tuesday, January 25, 2011.

Docket Numbers: ER11-2598-001; ER11-2607-001; ER11-2612-001.

Applicants: Sempra Energy Trading LLC, MxEnergy Electric Inc., Gateway Energy Services Corporation.

Description: Notice of Category 1 Seller Status of Sempra Energy Trading LLC, MXenergy Electric Inc., and Gateway Energy Services Corporation.

Filed Date: 01/04/2011.

Accession Number: 20110104-5135.

Comment Date: 5 p.m. Eastern Time on Tuesday, January 25, 2011.

Docket Numbers: ER11-2619-000.

Applicants: Southwest Power Pool, Inc.

Description: Southwest Power Pool, Inc. submits tariff filing per 35.13(a)(2)(iii: Ministerial Filing to Reflect Tariff Language Accepted in ER10-45-001 to be effective 7/26/2010.

Filed Date: 01/04/2011.

Accession Number: 20110104-5078.

Comment Date: 5 p.m. Eastern Time on Tuesday, January 25, 2011.

Docket Numbers: ER11-2620-000.

Applicants: Community Wind North, LLC.

Description: Community Wind North, LLC submits tariff filing per 35.1: Filing of Jurisdictional Agreement to be effective 1/5/2011.

Filed Date: 01/04/2011.

Accession Number: 20110104-5079.

Comment Date: 5 p.m. Eastern Time on Tuesday, January 25, 2011.

Docket Numbers: ER11-2621-000.

Applicants: Pacific Gas and Electric Company.

Description: Pacific Gas and Electric Company submits tariff filing per 35.13(a)(2)(iii: PWRPA Interconnection and WDT Service Agreements to be effective 1/5/2011.

Filed Date: 01/04/2011.

Accession Number: 20110104-5099.

Comment Date: 5 p.m. Eastern Time on Tuesday, January 25, 2011.

Docket Numbers: ER11-2622-000.

Applicants: PJM Interconnection, L.L.C.

Description: PJM Interconnection, L.L.C. submits tariff filing per 35.13(a)(2)(iii: 2010 RTEP December Board Filing to be effective 4/4/2011.

Filed Date: 01/04/2011.

Accession Number: 20110104-5103.

Comment Date: 5 p.m. Eastern Time on Tuesday, January 25, 2011.

Docket Numbers: ER11-2623-000.

Applicants: ISO New England Inc.

Description: ISO New England Inc. Resource Termination Filing (Energy Curtailment Specialists).

Filed Date: 01/04/2011.

Accession Number: 20110104-5133.

Comment Date: 5 p.m. Eastern Time on Tuesday, January 25, 2011.

Docket Numbers: ER11-2624-000.

Applicants: Duke Energy Carolinas, LLC.

Description: Notices of Cancellation of Duke Energy Carolinas, LLC.

Filed Date: 01/05/2011.

Accession Number: 20110105-5018.

Comment Date: 5 p.m. Eastern Time on Wednesday, January 26, 2011.

Docket Numbers: ER11-2626-000.

Applicants: ISO New England Inc.

Description: ISO New England Inc. submits tariff filing per 35.13(a)(2)(iii: Revisions to Correct Tariff Records to be effective 1/1/2011.

Filed Date: 01/05/2011.

Accession Number: 20110105-5036.

Comment Date: 5 p.m. Eastern Time on Wednesday, January 26, 2011.

Docket Numbers: ER11-2627-000.

Applicants: Blue Spruce Energy Center, LLC.

Description: Blue Spruce Energy Center, LLC submits tariff filing per 35.15: 20110105_Cancel Tariff ID to be effective 12/6/2010.

Filed Date: 01/05/2011.

Accession Number: 20110105-5037.

Comment Date: 5 p.m. Eastern Time on Wednesday, January 26, 2011.

Docket Numbers: ER11-2628-000.

Applicants: Arizona Public Service Company.

Description: Arizona Public Service Company submits tariff filing per 35: Revise APS's Market-Based Rate Tariff, FERC Electric Tariff, Volume No. 3 to be effective 12/17/2010.

Filed Date: 01/05/2011.

Accession Number: 20110105-5038.

Comment Date: 5 p.m. Eastern Time on Wednesday, January 26, 2011.

Docket Numbers: ER11-2629-000.

Applicants: Rocky Mountain Energy Center, LLC.

Description: Rocky Mountain Energy Center, LLC submits tariff filing per 35.15: 20110105_Cancel Tariff ID to be effective 12/6/2010.

Filed Date: 01/05/2011.

Accession Number: 20110105-5041.

Comment Date: 5 p.m. Eastern Time on Wednesday, January 26, 2011.

Docket Numbers: ER11-2630-000.

Applicants: PJM Interconnection, L.L.C.

Description: PJM Interconnection, L.L.C. submits tariff filing per 35.13(a)(2)(iii: Revisions to the Tariff and Operating Agreement regarding a Late Payment Charge to be effective 4/1/2011.

Filed Date: 01/05/2011.

Accession Number: 20110105-5049.

Comment Date: 5 p.m. Eastern Time on Wednesday, January 26, 2011.

Docket Numbers: ER11-2631-000.

Applicants: New York Independent System Operator, Inc.

Description: New York Independent System Operator, Inc. submits tariff filing per 35.13(a)(2)(iii: SGIA Among NYISO, NYSEG, and AES ES Westover to be effective 12/9/2010.

Filed Date: 01/05/2011.

Accession Number: 20110105-5092.

Comment Date: 5 p.m. Eastern Time on Wednesday, January 26, 2011.

Docket Numbers: ER11-2632-000.

Applicants: Southwest Power Pool, Inc.

Description: Southwest Power Pool, Inc. submits tariff filing per 35.13(a)(2)(iii: 2060 CPV Keenan II Renewable Energy, LLC GIA to be effective 12/6/2010.

Filed Date: 01/05/2011.

Accession Number: 20110105-5096.

Comment Date: 5 p.m. Eastern Time on Wednesday, January 26, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2011-900 Filed 1-14-11; 8:45 am]

BILLING CODE 6717-01-P